DEPARTMENT OF HOUSING AND URBAN DEVELOPMENT

[Docket No. FR-5529-N-03]

Notice of Regulatory Waiver Requests Granted for the Third Quarter of Calendar Year 2011

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on July 1, 2011, and ending on September 30, 2011.

FOR FURTHER INFORMATION CONTACT: For general information about this notice, contact Camille E. Acevedo, Associate General Counsel for Legislation and Regulations, Department of Housing and Urban Development, 451 7th Street SW., Room 10282, Washington, DC 20410-0500, telephone (202) 708-1793 (this is not a toll-free number). Persons with hearing- or speech-impairments may access this number through TTY by calling the toll-free Federal Relay Service at (800) 877-8339.

For information concerning a particular waiver that was granted and for which public notice is provided in this document, contact the person whose name and address follow the description of the waiver granted in the accompanying list of waivers that have been granted in the third quarter of calendar year 2011.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from July 1, 2011 through September 30, 2011. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are set out in time sequence beginning with the earliest-dated regulatory waiver.

Should HUD receive additional information about waivers granted during the period covered by this report (the third quarter of calendar year 2011) before the next report is published (the fourth quarter of calendar year 2011), HUD will include any additional waivers granted for the third quarter in the next report.

Accordingly, information about approved waiver requests pertaining to HUD regulations is provided in the Appendix that follows this notice.

Dated: December 13, 2011.
Helen R. Kanovsky,
General Counsel.

Appendix—Listing of Waivers of Regulatory Requirements Granted by Offices of the Department of Housing and Urban Development July 1, 2011 Through September 30, 2011

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 58.22(a).

Project/Activity: Railtech International, a global manufacturer of rail track repair and assembly equipment, sought to consolidate its operations by expanding the existing Railtech Boutet facility in Liberty Township, Ohio. The project included the construction of 31,777 sq. ft. in office and manufacturing space at that location.

Henry County used non-HUD funds to assist construction of the facility and to purchase equipment and machinery after applying for HUD CDBG funds, but prior to completing the environmental review process and receiving an approved Request for Release of Funds from HUD. The CDBG funds were to be used to purchase additional machinery and equipment.

Nature of Requirement: The regulation at 24 CFR 58.22(a) requires that an environmental review be performed and a Request for Release of Funds be completed and certified prior to the commitment of non-HUD funds to a project using HUD funds.

Granted by: Mercedes Márquez, Assistant Secretary for Community Planning and Development.

Date Granted: August 3, 2011.

Reason Waived: The waiver was granted because the above project would further the HUD mission and advance HUD program goals to develop viable, quality communities. Henry County does not have experience in administering HUD grants and the county stated that it did not intend to violate HUD's environmental requirements. No HUD funds were committed to the project prior to the environmental review. Granting the waiver would not result in any unmitigated, adverse environmental impact.

Contact: Nelson Rivera, Office of Environment and Energy, Office of Community Planning and Development, Department of Housing and Urban Development, 451 7th Street SW., Room 7248, Washington, DC 20410, telephone (202) 402-4455.

Nature of Requirement: According to 24 CFR 91.105(c)(1), changes in the use of CDBG funds from one activity to another constitutes a substantial amendment. HUD's regulation at 24 CFR 91.105(c)(2) requires that citizens be given no less than 30 days to comment on substantial amendments before they are implemented. The city asked to reduce its citizen comment period to 7 days so that it may quickly reallocate CDBG funds for activities to assist city residents and businesses affected by the storm/tornado.

Granted by: Mercedes Márquez, Assistant Secretary for Community Planning and Development.

Date Granted: July 13, 2011.

Reason Waived: The city was allowed to reduce its comment period from 30 days to 7 days so that it may quickly reallocate CDBG funds for activities to provide assistance to residents and businesses and facilitate its recovery efforts from the April 27, 2011, storm/tornado.

Contact: Gloria Coates, Office of Block Grant Assistance, Entitlement Communities Division, Office of Community Planning and Development, 451 7th Street SW., Room 7282, Washington, DC 20410, telephone (202) 708-1577.

• Regulation: 24 CFR 91.105(c)(2).

Project/Activity: The city of Birmingham, AL, experienced severe storms and a tornado on April 27, 2011, resulting in substantial property damage. A federal disaster declaration was issued for most jurisdictions in Alabama on April 28, 2011. The city requested the waiver of a regulation to shorten the required citizen comment period in order to quickly reallocate CDBG funds to assist residents and facilitate its recovery efforts.

Nature of Requirement: According to 24 CFR 91.105(c)(1), changes in the use of CDBG funds from one activity to another constitutes a substantial amendment. HUD's regulation at 24 CFR 91.105(c)(2) requires that citizens be given no less than 30 days to comment on substantial amendments before they are implemented. The city asked to reduce its citizen comment period to 7 days so that it may reallocate CDBG funds for activities to assist city residents affected by the storm/tornado.

Granted by: Mercedes Márquez, Assistant Secretary for Community Planning and Development.

Date Granted: August 31, 2011.

Reason Waived: The city was allowed to reduce the comment period from 30 days to 7 days to more quickly reallocate CDBG funds for activities that provide assistance to residents and businesses and facilitate recovery efforts from the April 27, 2011, storm/tornado.

Contact: Gloria Coates, Office of Block Grant Assistance, Entitlement Communities Division, Office of Community Planning and Development, 451 7th Street SW., Room 7282, Washington, DC 20410, telephone (202) 708-1577.

• Regulation: 24 CFR 91.105(c)(2).

Project/Activity: The city of Joplin, Missouri experienced a severe tornado on May 22, 2011, resulting in substantial property damage. A federal disaster declaration was issued for Jasper County, where Joplin is located, on May 9, 2011. This disaster declaration covers tornadoes, severe storms, and flooding that occurred from April 19, 2011, until June 6, 2011. The city requested the waiver of a regulation to shorten the required citizen comment period in order to quickly reallocate CDBG funds to assist city residents and facilitate recovery efforts.

Nature of Requirement: According to 24 CFR 91.105(c)(1), changes in the use of CDBG funds from one activity to another constitutes a substantial amendment. HUD's regulation at 24 CFR 91.105(c)(2) requires that citizens be given no less than 30 days to comment on substantial amendments before they are implemented. The city asked to reduce its citizen comment period to 7 days so that it may reallocate CDBG funds for activities to assist city residents affected by the storm/tornado.

Granted by: Mercedes Márquez, Assistant Secretary for Community Planning and Development.

Date Granted: September 8, 2011.

Reason Waived: The city was allowed to reduce its comment period from 30 days to 7 days so that it could quickly reallocate CDBG funds for activities to provide assistance to residents and businesses and facilitate its recovery efforts from the May 22, 2011, tornado.

Contact: Gloria Coates, Office of Block Grant Assistance, Entitlement Communities Division, Office of Community Planning and Development, 451 7th Street SW., Room 7282, Washington, DC 20410, telephone (202) 708-1577.

• Regulation: 24 CFR 91.105(c)(2).

Project/Activity: After disapproval of the County's FY2011 action plan, Westchester County, New York faced the possibility of layoffs or other staffing consequences. The county determined that there were additional eligible program administrative expenses and activity delivery costs that could be charged to its CDBG program from its 2008-2010 program years. The county requested a waiver of 24 CFR 91.105(c)(2) to reduce its citizen comment period to 14 days so that it may reallocate CDBG funds for these costs.

Nature of Requirement: According to 24 CFR 91.105(c)(1), changes in the use of CDBG funds from one activity to another constitutes a substantial amendment. HUD's regulation at 24 CFR 91.105(c)(2) requires that citizens be given no less than 30 days to comment on substantial amendments before they are implemented. The county needed to reduce its citizen comment period for substantial amendments to prior year action plans, so that it might quickly reallocate CDBG funds for planning and administrative costs to avoid layoffs or other critical staffing reductions.

Granted by: Mercedes Márquez, Assistant Secretary for Community Planning and Development.

Date Granted: September 8, 2011.

Reason Waived: The county was allowed to reduce its comment period from 30 days to 14 days so that it may quickly reallocate CDBG funds for planning and administrative activities and avoid a situation in which the county must lay off or otherwise reduce staffing levels at a critical time in its implementation of a legal settlement agreement. The waiver allowed the county to maintain capacity to administer its CDBG program until December 31, 2011.

Contact: Steve Johnson, Office of Block Grant Assistance, Entitlement Communities Division, Office of Community and Planning Development, 451 7th Street SW., Room 7282, Washington, DC 20410, telephone (202) 708-1577.

• Regulations: 24 CFR 91.115(b)(3), 24 CFR 91.115(c)(2), and 24 CFR 91.115(i).

Project/Activity: The State of Missouri requested a waiver of regulations at 24 CFR 91.115(b)(3), 24 CFR 91.115(c)(2), and 24 CFR 91.115(i) in order to provide disaster assistance to local governments in a timely manner.

Nature of Requirement: HUD's regulation at 24 CFR 91.115(b)(3) requires at least one public hearing on housing and community development needs before the proposed consolidated plan is published for comment. HUD's regulation at 24 CFR 91.115(c)(2) requires the citizen participation plan to provide a period not less than 30 days, to receive comments on the substantial amendment of the consolidated plan. HUD's regulation at 24 CFR 91.115(i) requires the State to follow its citizen participation plan.

Granted by: Mercedes Márquez, Assistant Secretary for Community Planning and Development.

Date Granted: July 27, 2011.

Reason Waived: A waiver of the need to hold additional public hearings and a reduced public comment period from 30 to 7 days was granted to allow the State of Missouri to implement the amendment to its 2011 Method of Distribution and annual action plan and enable the State to provide disaster assistance to affected local governments in a timely manner.

Contact: Steve Rhodeside, Acting Director, State and Small Cities Division, Office of Block Grant Assistance, Office of Community Planning and Development, Department of Housing and Urban Development, 451 7th Street SW., Room 7184, Washington, DC 20410, telephone (202) 402-7375.

• Regulations: 24 CFR 92.503(b)(3).

Project/Activity: The City of Inglewood, CA requested a waiver of 24 CFR 92.503(b)(3) to permit the City's repayment of $536,618.36 to be deposited into the City's HOME Investment Trust Fund local account and fund additional HOME-eligible activities.

Nature of Requirements: HUD's regulation at 24 CFR 92.503(b)(3) requires HOME funds to be repaid to the account from which they were drawn.

Granted by: Mercedes Márquez, Assistant Secretary for Community Planning and Development.

Date Granted: September 1, 2011.

Reasons Waived: The City of Inglewood repaid $2,191,107.25 to its HOME Investment Trust Fund Treasury account for an ineligible project. A portion of the total repayment, $536,618.36, was credited to the City's Fiscal Year (FY) 2003 HOME account, which was closed in 2010 due to expiration of the period of availability of the funds. As a result, the repaid funds were no longer available for the City's use in eligible affordable housing activities. The Cranston-Gonzalez National Affordable Housing Act states that such repaid funds shall be immediately available to the grantee for investment in eligible affordable housing activities. In this case, the compliance with the regulation thwarted statutory intent. The waiver was granted to permit the repaid funds to be returned to the City so that the funds could be deposited in the City's local HOME Investment Trust Fund account and invested in additional HOME-eligible activities.

Contact: Virginia Sardone, Office of Community Planning and Development, Department of Housing and Urban Development, 451 7th Street SW., Room 7164, Washington, DC 20410, telephone (202) 708-2684.

• Regulation: 24 CFR 570.200(g).

Project/Activity: After disapproval of its FY2011 action plan, Westchester County, NY faced the possibility of layoffs or other staffing consequences. The county determined that for program years 2008-2010 it could have expended additional amounts for administrative costs consistent with the statutory 20 percent cap, and could reprogram certain costs to administration and activity delivery costs. Amending its prior year action plans to include these costs would free up other funds to cover current administrative expenses, and would allow the county to retain capacity to administer CDBG-funded activities as well as implement activities required by a 2009 legal settlement.

Nature of Requirement: CDBG program annual appropriations acts contain a requirement that “not to exceed 20 percent of any grant made with funds appropriated [under the CDBG program] shall be expended for planning and management development and administration.” The methodology for determining compliance with this statutory requirement is established by regulation at 24 CFR 570.200(g). The county requested relief from the regulatory provisions of 24 CFR 570.200(g) to allow it to reprogram funds in program years 2008-2010 to address pending administrative costs, while maintaining compliance with the statutory provision.

Granted by: Mercedes Márquez, Assistant Secretary for Community Planning and Development.

Date Granted: September 8, 2011.

Reason Waived: In order to avoid a situation in which the county must lay off or otherwise reduce staffing levels at a critical time in its implementation of a legal settlement agreement, HUD approved a waiver of 24 CFR 570.200(g) to the extent necessary to provide reasonable flexibility in reprogramming funds. The county has assured HUD that the reprogramming will not result in the county exceeding the statutory limitations on planning and administrative expenditures. The waiver allowed the county to maintain capacity to administer its CDBG program until December 31, 2011.

Contact: Steve Johnson, Office of Block Grant Assistance, Entitlement Communities Division, Office of Community Planning and Development, 451 7th Street SW., Room 7282, Washington, DC 20410, telephone (202) 708-1577.

• Regulations: 24 CFR 570.209(b)(3).

Project/Activity: The City of Cleveland, OH, requested waiver of the standards for evaluating public benefit for special economic development projects for its Green City Growers Cooperative project. The city submitted a request for Section 108 Guaranteed Loan funds in the amount of $8,000,000 to be used in conjunction with its Fiscal Year 2009 Brownfield Economic Development Initiative (BEDI) grant in the amount of $2,000,000 for the Green City Growers Project. The project involves acquisition of real property and construction of a 6-acre commercial greenhouse complex on a 10-acre site. The project would cause the creation of 42 permanent jobs. The project is an eligible economic development activity in accordance with 24 CFR 570.703(i), pursuant to 24 CFR 570.203(b) and will meet the CDBG national objectives criteria in accordance with 24 CFR 570.208(a)(1)(vii) and 24 CFR 570.208(d)(5)(i) through low and moderate income area benefit; however, it does not meet the guidelines for evaluating public benefit for special economic development activities in accordance with 24 CFR 570.209(b)(3) for an individual activity. The city requested a waiver of these standards and cited other benefits to the residents in the project's service area, which is the city's Central Neighborhood Revitalization Area.

Nature of Requirements: HUD's regulation at 24 CFR 570.209(b)(3) specifies the minimum level of public benefit that must be obtained from the expenditure of CDBG funds (which term includes the proceeds of a Section 108 loan and BEDI grant funds) for special economic development projects. Specifically, for an individual activity that either creates or retains jobs or provides goods and services, the use of CDBG funds cannot exceed $50,000 per full-time equivalent job or $1,000 per low- and moderate-income person to which goods or services are provided. The City's project did not meet these guidelines.

Granted by: Mercedes Márquez, Assistant Secretary for Community Planning and Development.

Date Granted: July 29, 2011.

Reasons Waived: HUD granted the waiver because the City showed good cause by demonstrating that public benefits would be derived from the project, the public benefits provided by the project would be appropriate relative to the amount of CDBG assistance provided, and that an economic hardship would be suffered if the project was not carried out.

Contact: Paul D. Webster, Director, Financial Management Division, Office of Block Grant Assistance, Office of Community Planning and Development, Department of Housing and Urban Development, 451 7th Street SW., Washington, DC 20410, telephone (202) 708-1871.

• Requirements: Sections IV.A.1, IV.A.1.e and IV.A.2 of the Notice of Allocations, Application Procedures, and Requirements for Homelessness Prevention and Rapid Re-Housing Program Grantees under the American Recovery and Reinvestment Act of 2009, issued March 19, 2009 (HPRP Notice); and 24 CFR 91.115(c), (i), 576.3, and 576.35.

Project/Activity: The State of Alabama requested a waiver of several Homelessness Prevention and Rapid Re-Housing Program (HPRP) requirements, including sections IV.A.1, IV.A.1.e and IV.A.2 of the HPRP Notice, to allow more flexibility in providing homelessness prevention and rapid re-housing assistance to households affected by the April 2011 severe storms, tornadoes, straight-line winds, and flooding in the state.

Nature of Requirement: Sections IV.A.1 and IV.A.2 of the HPRP Notice limit the amount of time a program participant may receive HPRP financial assistance or housing relocation and stabilization services to 18 months. Section IV.A.1.e allows HPRP funds to be used for motel and hotel vouchers only up to 30 days for a program participant and only if no appropriate shelter beds are available and subsequent rental housing has been identified but is not immediately available. The citizen participation requirements at 24 CFR 91.115(c) and (i) require a minimum public comment period of 30 days for any substantial amendment to a grantee's consolidated plan. The “emergency shelter” definition in 24 CFR 576.3 limits the types of shelter fundable with Emergency Shelter Grants (ESG) to facilities focused on providing temporary or transitional shelter for homeless families and individuals. Under 24 CFR 576.35, states have 65 days after the award date to make ESG funds available to subgrantees, the subgrantees have another 180 days to obligate the funds, and all funds must be expended within 2 years of the award date.

Granted by: Mercedes Márquez, Assistant Secretary for Community Planning and Development.

Date Granted: July 1, 2011.

Reason Waived: HUD waived the requirements listed above to give the State more flexibility in using ESG and HPRP funds to assist households affected by the disaster. The State was allowed to reduce its public comment period to 3 days so the State could quickly reprogram and reallocate its ESG and HPRP funds to adapt to new needs caused by the disaster. Where shelter facilities were overfilled or damaged by the disaster, ESG funds could be used to rent available rental housing to shelter disaster victims. Program participants affected by the disaster could continue receiving HPRP assistance beyond the 18-month limit. Where adequate shelters and housing were both scarce, HPRP hotel vouchers could be used for longer periods and without identification of a subsequent residence. Finally, the extension of the ESG obligation and expenditure deadlines would allow for time needed to rebuild service delivery systems impaired by the disaster.

Contact: Ann M. Oliva, Director, Office of Special Needs Assistance Programs, Office of Community Planning and Development, Department of Housing and Urban Development, 451 7th Street SW., Room 7262, Washington, DC 20410, telephone (202) 708-4300.

Requirement: Section IV.A.1 of the HPRP.

Project/Activity: The State of Maryland requested the waiver so that its subgrantee, Garrett County Community Action Committee, Inc. (Garrett County CAC), could provide HPRP assistance to individuals and families in housing units owned by Garrett County CAC.

Nature of Requirement: Section IV.A.1 of the HPRP Notice provides that HPRP financial assistance may not be used in connection with housing owned by the grantee, subgrantee, or the parent, subsidiary, or affiliated organization of the subgrantee.

Date Granted: July 22, 2011.

Reason Waived: The State of Maryland and Garrett County CAC sufficiently demonstrated that: (1) The use of the housing owned and/or managed by Garrett County CAC is necessary to provide an adequate supply of appropriate housing options for HPRP participants in Garrett County; (2) the State of Maryland and Garrett County CAC disclosed the conflict of interest; (3) HPRP participants would not be required or steered to live in housing owned and/or managed by Garrett County CAC in order to receive financial or other assistance under HPRP; and (4) other than a one-time payment of rent in arrears, Garrett County CAC would not provide HPRP rental assistance to any tenant who lives in a unit that receives ongoing assistance, or who receives tenant-based rental assistance, under any other program.

Contact: Ann M. Oliva, Director, Office of Special Needs Assistance Programs, Office of Community Planning and Development, Department of Housing and Urban Development, 451 7th Street SW., Room 7262, Washington, DC 20410, telephone (202) 708-4300.

• Requirement: Section IV.A.1 of the HPRP Notice.

Project/Activity: The State of California, County of Alameda, City of Oakland, City of Alameda, City of Berkeley, City of Fremont, and City of Hayward requested the waiver to help individuals and families in Alameda County retain or obtain units in housing owned by an HPRP subgrantee or its subsidiary. The grantees and their subgrantees had partnered to implement a single, comprehensive, coordinated HPRP program in Alameda County. According to the grantees, the housing owned by the following subgrantees and one subsidiary organization was necessary to meet the high demand for affordable housing by individuals and families eligible for HPRP: Abode Services (HPRP subgrantee), Allied Housing (a subsidiary of Abode Services), Berkeley Food and Housing Project (HPRP subgrantee), and Building Futures with Woman and Children (HPRP subgrantee).

Nature of Requirement: Section IV.A.1 of the HPRP Notice provides that HPRP financial assistance may not be used in connection with housing owned by the grantee, subgrantee, or the parent, subsidiary, or affiliated organization of the subgrantee.

Granted by: Mercedes Márquez, Assistant Secretary for Community Planning and Development.

Date Granted: September 14, 2011.

Reason Waived: The grantees sufficiently demonstrated that: (1) The conflict of interest for each subgrantee had been publicly disclosed; (2) HPRP participants would not be required or steered to live in housing owned by the subgrantees or subsidiary in order to receive financial or other assistance under HPRP; (3) other than a one-time payment of rent in arrears, HPRP rental assistance would not be provided to any tenant who lives in a unit that receives ongoing assistance, or who receives tenant-based rental assistance, under any other program; (4) no subgrantee would conduct an eligibility assessment for any individual or family housed in units owned by that subgrantee or its subsidiary; and (5) no subgrantee would assess rent reasonableness of determine the amount or length of the rent subsidy for housing owned by that subgrantee or its subsidiary.

Contact: Ann M. Oliva, Director, Office of Special Needs Assistance Programs, Office of Community Planning and Development, Department of Housing and Urban Development, 451 7th Street SW., Room 7262, Washington, DC 20410, telephone (202) 708-4300.

• Requirements: Section IV.A.1 of the HPRP Notice.

Project/Activity: The U.S. Virgin Islands requested the waiver so that HPRP funds could be used to assist individuals and families in housing owned by the Virgin Islands Housing Finance Agency (VIHFA) and its subsidiary Virgin Islands Housing Management, Inc. (VIHM).

Nature of Requirement: Section IV.A.1 of the HPRP Notice provides that HPRP financial assistance may not be used in connection with housing owned by the grantee, subgrantee, or the parent, subsidiary, or affiliated organization of the subgrantee.

Granted by: Mercedes Márquez, Assistant Secretary for Community Planning and Development.

Date Granted: September 29, 2011.

Reason Waived: The U.S. Virgin Islands sufficiently demonstrated that: (1) The use of HPRP funds to pay rent or utilities in arrears in housing owned by VIHFA and VIHM is necessary to prevent eligible households from becoming homeless; (2) VIHFA and VIHM disclosed the conflict of interest; (3) HPRP participants would not be required or steered to live in VIHFA's or VIHM's housing in order to receive financial or other assistance under HPRP; (4) other than a one-time payment of the tenant's portion of rent in arrears, HPRP rental assistance would not be provided to any tenant who lives in a unit that receives ongoing assistance, or who receives tenant-based rental assistance, under any other program; and (5) initial assessment and review of each applicant's eligibility, assistance needs, and rent reasonableness would be conducted by organizations other than VIHFA and VIHM.

Contact: Ann M. Oliva, Director, Office of Special Needs Assistance Programs, Office of Community Planning and Development, Department of Housing and Urban Development, 451 7th Street SW., Room 7262, Washington, DC 20410, telephone (202) 708-4300.

II. Regulatory Waivers Granted by the Office of Housing—Federal Housing Administration (FHA)

For further information about the following regulatory waivers, please see the name of the contact person that immediately follows the description of the waiver granted.

• Regulation: 24 CFR 203.4(b).

Project/Activity: FHA Single Family Mortgage Insurance Program, Washington, DC.

Nature of Requirement: HUD's regulation at 24 CFR 203.4(b) requires that mortgagees seeking Lender Insurance authority have an acceptable claim and default record for at least two years. This regulation makes new mortgagees created from mergers, acquisitions and reorganizations, including changes and transfers among corporate parents and subsidiaries, ineligible for Lender Insurance, even when the former mortgagee entity or entities had Lender Insurance authority.

Granted by: Carol J. Galante, Acting Assistant Secretary for Housing—Federal Housing Commissioner.

Date Granted: September 9, 2011.

Reason Waived: Lender Insurance provides benefits and cost savings to both mortgagees and HUD. By waiving this requirement an expanded number of mortgagees with a demonstrated successful record in the Lender Insurance program may participate in the program. HUD is currently amending the regulation at 24 CFR 203.4(b) to specifically allow mortgagees created through corporate acquisitions, mergers and reorganizations to qualify for the Lender Insurance program.

Contact: Philip Caulfield, Home Mortgage Insurance Division, 45, Office of Housing, Department of Housing and Urban Development, 451 7th Street SW., Washington, DC 20410-8000, telephone (202) 708-3000.

• Regulation: 24 CFR 891.100(d).

Project/Activity: Monarch Place Apartments, Marion, OH, Project Number: 043-HD057/OH16-Q091-001.

Nature of Requirement: Section 891.100(d) prohibits amendment of the amount of the approved capital advance funds prior to closing.

Granted by: Carol J. Galante, Acting Assistant Secretary for Housing—Federal Housing Commissioner.

Date Granted: July 27, 2011.

Reason Waived: The project is economically designed and comparable in cost to similar projects in the area, and the sponsor/owner exhausted all efforts to obtain additional funding from other sources.

Contact: Aretha Williams, Acting Director, Office of Housing Assistance and Grant Administration, Office of Housing, Department of Housing and Urban Development, 451 7th Street SW., Room 6142, Washington, DC 20410-8000, telephone (202) 708-3000.

• Regulation: 24 CFR 891.100(d).

Project/Activity: Charles Place Apartments, Rushville, IL, Project Number: 072-EE178/IL06-S091-001.

Nature of Requirement: Section 891.100(d) prohibits amendment of the amount of the approved capital advance funds prior to closing.

Granted by: Carol J. Galante, Acting Assistant Secretary for Housing—Federal Housing Commissioner.

Date Granted: August 10, 2011.

Reason Waived: The project is economically designed and comparable in cost to similar projects in the area, and the sponsor/owner exhausted all efforts to obtain additional funding from other sources.

Contact: Aretha Williams, Acting Director, Office of Housing Assistance and Grant Administration, Office of Housing, Department of Housing and Urban Development, 451 7th Street SW., Room 6142, Washington, DC 20410-8000, telephone (202) 708-3000.

• Regulation: 24 CFR 891.100(d).

Project/Activity: Commonwealth Apartments, Loves Park, IL, Project Number: 071-HD169/IL06-Q091-011.

Nature of Requirement: Section 891.100(d) prohibits amendment of the amount of the approved capital advance funds prior to closing.

Granted by: Carol J. Galante, Acting Assistant Secretary for Housing—Federal Housing Commissioner.

Date Granted: August 19, 2011.

Reason Waived: The project is economically designed and comparable in cost to similar projects in the area, and the sponsor/owner exhausted all efforts to obtain additional funding from other sources.

Contact: Aretha Williams, Acting Director, Office of Housing Assistance and Grant Administration, Office of Housing, Department of Housing and Urban Development, 451 7th Street SW., Room 6142, Washington, DC 20410-8000, telephone (202) 708-3000.

• Regulation: 24 CFR 891.100(d).

Project/Activity: Hudson House, Bronx, NY, Project Number: 012-EE376/NY36-S091-006.

Nature of Requirement: Section 891.100(d) prohibits amendment of the amount of the approved capital advance funds prior to closing.

Granted by: Carol J. Galante, Acting Assistant Secretary for Housing—Federal Housing Commissioner.

Date Granted: August 23, 2011.

Reason Waived: The project is economically designed and comparable in cost to similar projects in the area, and the sponsor/owner exhausted all efforts to obtain additional funding from other sources.

Contact: Aretha Williams, Acting Director, Office of Housing Assistance and Grant Administration, Office of Housing, Department of Housing and Urban Development, 451 7th Street SW., Room 6142, Washington, DC 20410-8000, telephone (202) 708-3000.

• Regulation: 24 CFR 891.100(d).

Project/Activity: Boehme Hinni Apartments, Cape Girardeau, MO,

Project Number: 085-HD054/MO36-Q091-003.

Nature of Requirement: Section 891.100(d) prohibits amendment of the amount of the approved capital advance funds prior to closing.

Granted by: Carol J. Galante, Acting Assistant Secretary for Housing—Federal Housing Commissioner.

Date Granted: August 29, 2011.

Reason Waived: The project is economically designed and comparable in cost to similar projects in the area, and the sponsor/owner exhausted all efforts to obtain additional funding from other sources.

Contact: Aretha Williams, Acting Director, Office of Housing Assistance and Grant Administration, Office of Housing, Department of Housing and Urban Development, 451 7th Street SW., Room 6142, Washington, DC 20410-8000, telephone (202) 708-3000.

• Regulation: 24 CFR 891.100(d).

Project/Activity: Stella Linney House, Wilburton, OK, Project Number: 118-HD039/OK56-Q091-002.

Nature of Requirement: Section 891.100(d) prohibits amendment of the amount of the approved capital advance funds prior to closing.

Granted by: Carol J. Galante, Acting Assistant Secretary for Housing—Federal Housing Commissioner.

Date Granted: September 22, 2011.

Reason Waived: The project is economically designed and comparable in cost to similar projects in the area, and the sponsor/owner exhausted all efforts to obtain additional funding from other sources.

Contact: Aretha Williams, Acting Director, Office of Housing Assistance and Grant

Administration, Office of Housing, Department of Housing and Urban Development, 451 7th Street SW., Room 6142, Washington, DC 20410-8000, telephone (202) 708-3000.

• Regulation: 24 CFR 891.165.

Project/Activity: Woodburne House, Louisville, KY, Project Number: 083-EE112/KY36-S081-003.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: July 1, 2011.

Reason Waived: Additional time was needed for the sponsor/owner to resubmit their application to secure funding for Low Income Housing Tax Credits through the Kentucky Housing Corporation and for the project to reach initial closing.

Contact: Aretha Williams, Acting Director, Office of Housing Assistance and Grant Administration, Office of Housing, Department of Housing and Urban Development, 451 7th Street SW., Room 6142, Washington, DC 20410-8000, telephone (202) 708-3000.

• Regulation: 24 CFR 891.165.

Project/Activity: Hudson Disabled Housing, Hudson, WI, Project Number: 075-HD094/WI39-Q081-001.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: July 1, 2011.

Reason Waived: Additional time was needed for the project to reach initial closing.

Contact: Aretha Williams, Acting Director, Office of Housing Assistance and Grant Administration, Office of Housing, Department of Housing and Urban Development, 451 7th Street SW., Room 6142, Washington, DC 20410-8000, telephone (202) 708-3000.

• Regulation: 24 CFR 891.165.

Project/Activity: Markham Gardens, Staten Island, NY,

Project Number: 012-EE370/NY36-S081-006.

Nature of Requirement: Section 891.165 provides that the duration of the fund reservation of the capital advance is 18 months from the date of issuance with limited exceptions up to 24 months, as approved by HUD on a case-by-case basis.

Granted by: Carol J. Galante, Acting Assistant Secretary for Housing—Federal Housing Commissioner.

Date Granted: July 1, 2011.

Reason Waived: Additional time was needed for the firm commitment application to be processed and for the project to reach initial closing.

Contact: Aretha Williams, Acting Director, Office of Housing Assistance and Grant Administration, Office of Housing, Department of Housing and Urban Development, 451 7th Street SW., Room 6142, Washington, DC 20410-8000, telephone (202) 708-3000.

• Regulation: 24 CFR 891.165.

Project/Activity: TBD, Westerly, RI, And Project Number: 016-HD055/RI43-Q081-001.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: July 8, 2011.

Reason Waived: Additional time was needed for the firm commitment application to be submitted and processed and for the project to reach initial closing.

Contact: Aretha Williams, Acting Director, Office of Housing Assistance and Grant

Administration, Office of Housing, Department of Housing and Urban Development, 451 7th Street SW., Room 6142, Washington, DC 20410-8000, telephone (202) 708-3000.

• Regulation: 24 CFR 891.165.

Project/Activity: Hale Mahaolu Ehiku, Phase II, Kihei, HI, Project Number: 140-EE035/HI10-S051-002.

Nature of Requirement: Section 891.165 provides that the duration of the fund reservation of the capital advance is 18 months from the date of issuance with limited exceptions up to 24 months, as approved by HUD on a case-by-case basis.

Granted by: Carol J. Galante, Acting Assistant Secretary for Housing—Federal Housing Commissioner.

Date Granted: July 8, 2011.

Reason Waived: Additional time was needed to finalize the Declaration of Covenants, Conditions and Restrictions and other closing documents for this mixed finance project.

Contact: Aretha Williams, Acting Director, Office of Housing Assistance and Grant

Administration, Office of Housing, Department of Housing and Urban Development, 451 7th Street SW., Room 6142, Washington, DC 20410-8000, telephone (202) 708-3000.

• Regulation: 24 CFR 891.165.

Project/Activity: Incor Two, Muskogee, OK, Project Number: 118-HD038/OK56-Q081-002.

Nature of Requirement: Section 891.165 provides that the duration of the fund reservation of the capital advance is 18 months from the date of issuance with limited exceptions up to 24 months, as approved by HUD on a case-by-case basis.

Granted by: Carol J. Galante, Acting Assistant Secretary for Housing—Federal Housing Commissioner.

Date Granted: August 1, 2011.

Reason Waived: Additional time was needed for the firm commitment to be issued and for the project to reach initial closing.

Contact: Aretha Williams, Acting Director, Office of Housing Assistance and Grant Administration, Office of Housing, Department of Housing and Urban Development, 451 7th Street SW., Room 6142, Washington, DC 20410-8000, telephone (202) 708-3000.

• Regulation: 24 CFR 891.165.

Project/Activity: Rock Ridge Apartments, McAlester, OK, Project Number: 118-HD037/OK56-Q081-001.

Nature of Requirement: Section 891.165 provides that the duration of the fund reservation of the capital advance is 18 months from the date of issuance with limited exceptions up to 24 months, as approved by HUD on a case-by-case basis.

Granted by: Carol J. Galante, Acting Assistant Secretary for Housing—Federal Housing Commissioner.

Date Granted: August 3, 2011.

Reason Waived: Additional time was needed for the sponsor/owner to finalize the development plans and for the project to reach initial closing.

Contact: Aretha Williams, Acting Director, Office of Housing Assistance and Grant Administration, Office of Housing, Department of Housing and Urban Development, 451 7th Street SW., Room 6142, Washington, DC 20410-8000, telephone (202) 708-3000.

• Regulation: 24 CFR 891.165.

Project/Activity: Gautier VOA Senior Housing, Inc., Project Number: 065-EE051/MS26-S091-001.

Nature of Requirement: Section 891.165 provides that the duration of the fund reservation of the capital advance is 18 months from the date of issuance with limited exceptions up to 24 months, as approved by HUD on a case-by-case basis.

Granted by: Carol J. Galante, Acting Assistant Secretary for Housing—Federal Housing Commissioner.

Date Granted: August 15, 2011.

Reason Waived: Additional time was needed for the project to reach initial closing.

Contact: Aretha Williams, Acting Director, Office of Housing Assistance and Grant Administration, Office of Housing, Department of Housing and Urban Development, 451 7th Street SW., Room 6142, Washington, DC 20410-8000, telephone (202) 708-3000.

• Regulation: 24 CFR 891.165.

Project/Activity: Picayune VOA Senior Housing, Inc., Project Number: 065-EE052/MS26-S091-002.

Nature of Requirement: Section 891.165 provides that the duration of the fund reservation of the capital advance is 18 months from the date of issuance with limited exceptions up to 24 months, as approved by HUD on a case-by-case basis.

Granted by: Carol J. Galante, Acting Assistant Secretary for Housing—Federal Housing Commissioner.

Date Granted: August 17, 2011.

Reason Waived: Additional time was needed for the project to reach initial closing.

Contact: Aretha Williams, Acting Director, Office of Housing Assistance and Grant Administration, Office of Housing, Department of Housing and Urban Development, 451 7th Street SW., Room 6142, Washington, DC 20410-8000, telephone (202) 708-3000.

• Regulation: 24 CFR 891.165.

Project/Activity: AHEPA 63, Tallmadge, OH, Project Number: 042-EE218/OH12-S071-004.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: August 31, 2011.

Reason Waived: Additional time was needed to process the firm commitment application and for the project to reach initial closing.

Contact: Aretha Williams, Acting Director, Office of Housing Assistance and Grant Administration, Office of Housing, Department of Housing and Urban Development, 451 7th Street SW., Room 6142, Washington, DC 20410-8000, telephone (202) 708-3000.

• Regulation: 24 CFR 891.165.

Project/Activity: Mary Rose Estates Apartments, Willoughby, OH, Project Number: 042-EE208/OH12-S061-006.

Nature of Requirement: Section 891.165 provides that the duration of the fund reservation of the capital advance is 18 months from the date of issuance with limited exceptions up to 24 months, as approved by HUD on a case-by-case basis.

Granted by: Carol J. Galante, Acting Assistant Secretary for Housing—Federal Housing Commissioner.

Date Granted: September 2, 2011.

Reason Waived: Additional time was needed to resolve the zoning litigation, the site change and cost increases issues and for the project to reach initial closing.

Contact: Aretha Williams, Acting Director, Office of Housing Assistance and Grant Administration, Office of Housing, Department of Housing and Urban Development, 4517th Street SW., Room 6142, Washington, DC 20410-8000, telephone (202) 708-3000.

• Regulation: 24 CFR 891.165.

Project/Activity: Shiloh Senior Housing, New Rochelle, NY, Project Number: 012-EE361/NY36-S071-007.

Nature of Requirement: Section 891.165 provides that the duration of the fund reservation of the capital advance is 18 months from the date of issuance with limited exceptions up to 24 months, as approved by HUD on a case-by-case basis.

Granted by: Carol J. Galante, Acting Assistant Secretary for Housing—Federal Housing Commissioner.

Date Granted: September 9, 2011.

Reason Waived: Additional time was needed for this mixed finance project to finalize the bond issues and for the project to reach initial closing.

Contact: Aretha Williams, Acting Director, Office of Housing Assistance and Grant Administration, Office of Housing, Department of Housing and Urban Development, 451 7th Street SW., Room 6142, Washington, DC 20410-8000, telephone (202) 708-3000.

• Regulation: 24 CFR 891.165.

Project/Activity: Kelsey Village Apartments (aka Querencia Place, Sacramento, CA, Project Number: 136-HD022/CA30-Q071-002.

Nature of Requirement: Section 891.165 provides that the duration of the fund reservation of the capital advance is 18 months from the date of issuance with limited exceptions up to 24 months, as approved by HUD on a case-by-case basis.

Granted by: Carol J. Galante, Acting Assistant Secretary for Housing—Federal Housing Commissioner.

Date Granted: September 29, 2011.

Reason Waived: Additional time was needed for the firm commitment application to be submitted and processed and for the project to reach initial closing.

Contact: Aretha Williams, Acting Director, Office of Housing Assistance and Grant Administration, Office of Housing, Department of Housing and Urban Development, 451 7th Street SW., Room 6142, Washington, DC 20410-8000, telephone (202) 708-3000.

• Regulation: 24 CFR 891.165.

Project/Activity: Bakersfield Senior Apartments, Bakersfield, CA, Project Number: 122-EE208/CA16-S081-001.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: September 30, 2011.

Reason Waived: Additional time was needed for the firm commitment application to be processed and for the project to reach initial closing.

Contact: Aretha Williams, Acting Director, Office of Housing Assistance and Grant Administration, Office of Housing, Department of Housing and Urban Development, 451 7th Street SW., Room 6142, Washington, DC 20410-8000, telephone (202) 708-3000.

• Regulation: 24 CFR 891.830(c)(4).

Project/Activity: Allen by the Bay Senior Housing, Queens, NY, Project Number: 012-EE368/NY36-S081-004.

Nature of Requirement: Section 891.830(c)(4) requires that capital advance funds be drawn down only in an approved ratio to other funds, in accordance with a drawdown schedule approved by HUD.

Granted by: Carol J. Galante, Acting Assistant Secretary for Housing—Federal Housing Commissioner.

Date Granted: July 26, 2011.

Reason Waived: While HUD generally expects the capital advance funds to be drawn in one-to-one ratio for eligible costs actually incurred, HUD acknowledges that, at times, some variance from the drawdown requirements may be needed for the success of the project. For this project, the waiver was granted to permit the capital advance to be used to collateralize the tax exempt bonds issued to finance the construction of the project and to pay off a portion of the tax-exempt bonds that strictly related to capital advance eligible costs.

Contact: Aretha Williams, Acting Director, Office of Housing Assistance and Grant Administration, Office of Housing, Department of Housing and Urban Development, 451 7th Street SW., Room 6142, Washington, DC 20410-8000, telephone (202) 708-3000.

• Regulation: 24 CFR 891.830(c)(4).

Project/Activity: NCR Holy Trinity II (Mother Teresa Commons), Bedford Heights, OH, Project Number: 042-EE241/OH12-S091-004.

Nature of Requirement: Section 891.830(c)(4) prohibits the capital advance funds from paying off bridge or construction financing, or repaying or collateralizing bonds.

Granted by: Carol J. Galante, Acting Assistant Secretary for Housing—Federal Housing Commissioner.

Date Granted: August 5, 2011.

Reason Waived: While HUD generally expects the capital advance funds to be drawn in one-to-one ratio for eligible costs actually incurred, HUD acknowledges that, at times, some variance from the drawdown requirements may be needed for the success of the project. For this project, the waiver was granted to permit the capital advance to be used to collateralize the tax exempt bonds issued to finance the construction of the project and to pay off a portion of the tax-exempt bonds that strictly related to capital advance eligible costs.

Contact: Aretha Williams, Acting Director, Office of Housing Assistance and Grant Administration, Office of Housing, Department of Housing and Urban Development, 451 7th Street SW., Room 6142, Washington, DC 20410-8000, telephone (202) 708-3000.

• Regulation: 24 CFR 891.830(c)(4).

Project/Activity: Betmar Village, Atlanta, GA, Project Number: 061-EE176/GA06-S091-007.

Nature of Requirement: Section 891.830(c)(4) prohibits the capital advance funds from paying off bridge or construction financing, or repaying or collateralizing bonds.

Granted by: Carol J. Galante, Acting Assistant Secretary for Housing—Federal Housing Commissioner.

Date Granted: August 31, 2011.

Reason Waived: While HUD generally expects the capital advance funds to be drawn in one-to-one ratio for eligible costs actually incurred, HUD acknowledges that, at times, some variance from the drawdown requirements may be needed for the success of the project. For this project, the waiver was granted to permit the capital advance to be used to collateralize the tax exempt bonds issued to finance the construction of the project and to pay off a portion of the tax-exempt bonds that strictly related to capital advance eligible costs.

Contact: Aretha Williams, Acting Director, Office of Housing Assistance and Grant Administration, Office of Housing, Department of Housing and Urban Development, 451 7th Street SW., Room 6142, Washington, DC 20410-8000, telephone (202) 708-3000.

III. Regulatory Waivers Granted by the Office of Public and Indian Housing

For further information about the following regulatory waivers, please see the name of the contact person that immediately follows the description of the waiver granted.

• Regulation: 24 CFR 5.801(d)(1).

Project/Activity: Oakland Housing Authority, (CA003), Oakland, CA.

Nature of Requirement: The regulation establishes certain reporting compliance dates. The audited financial statements are required to be submitted to the Real Estate Assessment Center (REAC) no later than nine months after the housing authority's (HA) fiscal year end (FYE), in accordance with the Single Audit Act and OMB Circular A-133.

Granted by: Sandra B. Henriquez, Assistant Secretary for Public and Indian Housing

Date Granted: August 12, 2011.

Reason Waived: The HA contends that as a result of a HUD Office of the Inspector General Investigation, additional time was needed to submit its fiscal year end (FYE) June 30, 2010, audited financial information. An initial waiver request dated March 17, 2011, was granted with a June 30, 2011, financial submission due date. Granting the waiver would provide additional time to allow the financial data schedule to be adequately completed and for inputting the June 30, 2010, audited financial information into the Financial Assessment Subsystem (FASS) on-line system. However, this FASS audited submission waiver (extension) does not apply to Circular A-133 submissions to the Federal Audit Clearinghouse. The HA is required to meet the A-133 due dates.

Contact: Johnson Abraham, Program Manager, NASS, Real Estate Assessment Center, Office of Public and Indian Housing, Department of Housing and Urban Development, 550 12th Street SW., Suite 100, Washington, DC 20410, telephone (202) 475-8583.

• Regulation: 24 CFR 902.20.

Project/Activity: Bladenboro Housing Authority, (NC089), Bladenboro, NC.

Nature of Requirement: The objective of this regulation is to determine whether a housing authority (HA) is meeting the standard of decent, safe, sanitary, and in good repair. The Real Estate Assessment Center (REAC) provides for an independent physical inspection of a HA's property of properties that includes a statistically valid sample of the units.

Granted by: Sandra B. Henriquez, Assistant Secretary for Public and Indian Housing

Date Granted: September 8, 2011.

Reason Waived: The housing authority (HA) sustained extensive wind and hail damage due to a tornado. The HA contends that a physical inspection at this time would unduly penalize the HA and adversely affect its Public Housing Assessment Score. The reporting requirements were waived to give the HA the necessary time to tend to any damage caused by the storm.

Contact: Johnson Abraham, Program Manager, NASS, Real Estate Assessment Center, Office of Public and Indian Housing, Department of Housing and Urban Development, 550 12th Street SW., Suite 100, Washington, DC 20410, telephone (202) 475-8583.

• Regulation: 24 CFR 982.312.

Project/Activity: Bellingham/Whatcom County Housing Authority (BWCHA), Bellingham, WA.

Nature of Requirement: 24 CFR 982.312 prohibits the family from being absent from the unit for more than 180 consecutive days.

Granted By: Sandra B. Henriquez, Assistant Secretary for Public and Indian Housing.

Date Granted: August 12, 2011.

Reason Waived: The family participated in the Homeownership Option under the voucher program. The head of household was called for active duty in the United States Navy. Granting a waiver prevented a default of the housing loan and unnecessary hardship on the family.

Contact: Laure Rawson, Director, Housing Voucher Management and Operations Division, Office of Public Housing and Voucher Programs, Office of Public and Indian Housing, Department of Housing and Urban Development, 451 7th Street SW., Room 4210, Washington, DC 20410, telephone (202) 708-0477.

• Regulation: 24 CFR 982.503(d) and 982.505(c)(3).

Project/Activity: Placios Housing Authority (PHA), Placios, TX.

Nature of Requirement: HUD's regulation at 24 CFR 982.503(d) states that HUD may consider and approve a public housing agency's establishment of a payment standard lower than the basic range, but that HUD will not approve a lower payment standard if the family share for more than 40 percent of participants in the agency's voucher program exceeds 30 percent of adjusted monthly income. HUD's regulation 24 CFR 982.505(c)(3) states that, if the amount on the payment standard schedule is decreased during the term of the housing assistance payments (HAP) contract, the lower payment standard amount generally must be used to calculate the monthly HAP for the family beginning on the effective date of the family's second regular reexamination following the effective date of the decrease.

Granted by: Sandra B. Henriquez, Assistant Secretary for Public and Indian Housing.

Date Granted: July 13, 2011.

Reason Waived: This waiver was granted because these cost-saving measures would enable the PHA to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 7th Street SW., Room 4210, Washington, DC 20410, telephone (202) 708-0477.

• Regulation: 24 CFR 982.505(c)(3).

Project/Activity: Tennessee Housing Development Agency (THDA), Nashville, TN.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted by: Sandra B. Henriquez, Assistant Secretary for Public and Indian Housing.

Date Granted: July 13, 2011.

Reason Waived: This waiver was granted because this cost-saving measure would enable the THDA to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 7th Street SW., Room 4210, Washington, DC 20410, telephone (202) 708-0477.

• Regulation: 24 CFR 982.505(c)(3).

Project/Activity: Metropolitan Development and Housing Agency (MDHA), Nashville, TN.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted by: Sandra B. Henriquez, Assistant Secretary for Public and Indian Housing.

Date Granted: July 18, 2011.

Reason Waived: This waiver was granted because this cost-saving measure would enable the MDHA to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 7th Street SW., Room 4210, Washington, DC 20410, telephone (202) 708-0477.

• Regulation: 24 CFR 982.505(c)(3).

Project/Activity: Danbury Housing Authority (DHA), Danbury, CT.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted by: Sandra B. Henriquez, Assistant Secretary for Public and Indian Housing.

Date Granted: August 16, 2011.

Reason Waived: This waiver was granted because this cost-saving measure would enable the DHA to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 7th Street SW., Room 4210, Washington, DC 20410, telephone (202) 708-0477.

• Regulation: 24 CFR 982.505(c)(3).

Project/Activity: Bayamon Public Housing Authority (BPHA), Bayamon, PR.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted by: Sandra B. Henriquez, Assistant Secretary for Public and Indian Housing.

Date Granted: August 25, 2011.

Reason Waived: This waiver was granted because this cost-saving measure would enable the BPHA to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 7th Street SW., Room 4210, Washington, DC 20410, telephone (202) 708-0477.

• Regulation: 24 CFR 982.505(c)(3).

Project/Activity: Housing Authority of Bladenboro (HAB), Bladenboro, NC.

Nature of Requirement: 24 CFR 982.505(c) (3) states that, if the amount on the payment standard schedule is decreased during the term of the housing assistance payments (HAP) contract, the lower payment standard amount generally must be used to calculate the monthly HAP for the family beginning on the effective date of the family's second regular reexamination following the effective date of the decrease.

Granted by: Sandra B. Henriquez, Assistant Secretary for Public and Indian Housing.

Date Granted: August 25, 2011.

Reason Waived: This waiver was granted because this cost-saving measure would enable the HAB to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 7th Street SW., Room 4210, Washington, DC 20410, telephone (202) 708-0477.

• Regulation: 24 CFR 982.505(c)(3).

Project/Activity: East Tennessee Human Resource Agency (ETHRA), Maynardville, TN.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted by: Sandra B. Henriquez, Assistant Secretary for Public and Indian Housing.

Date Granted: September 7, 2011.

Reason Waived: This waiver was granted because this cost-saving measure would enable the ETHRA to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 7th Street SW., Room 4210, Washington, DC 20410, telephone (202) 708-0477.

• Regulation: 24 CFR 982.505(c)(3).

Project/Activity: Housing Authority of Hartsville (HAH), Hartsville, SC.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted by: Sandra B. Henriquez, Assistant Secretary for Public and Indian Housing.

Date Granted: September 20, 2011.

Reason Waived: This waiver was granted because this cost-saving measure would enable the HAH to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 7th Street SW., Room 4210, Washington, DC 20410, telephone (202) 708-0477.

• Regulation: 24 CFR 982.505(c)(3).

Project/Activity: Housing Authority of Bartow (HAB), Bartow, FL.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted by: Sandra B. Henriquez, Assistant Secretary for Public and Indian Housing.

Date Granted: September 21, 2011.

Reason Waived: This waiver was granted because this cost-saving measure would enable the HAB to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 7th Street SW., Room 4210, Washington, DC 20410, telephone (202) 708-0477.

• Regulation: 24 CFR 982.505(c)(3).

Project/Activity: Brunswick Housing Authority (BHA), Brunswick, GA.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted by: Sandra B. Henriquez, Assistant Secretary for Public and Indian Housing.

Date Granted: September 21, 2011.

Reason Waived: This waiver was granted because this cost-saving measure would enable the BHA to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 7th Street SW., Room 4210, Washington, DC 20410, telephone (202) 708-0477.

• Regulation: 24 CFR 982.505(c)(3).

Project/Activity: Harnett County Housing Authority (HCHA), Harnett County, NC.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted by: Sandra B. Henriquez, Assistant Secretary for Public and Indian Housing.

Date Granted: September 21, 2011.

Reason Waived: This waiver was granted because this cost-saving measure would enable the HCHA to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 7th Street SW., Room 4210, Washington, DC 20410, telephone (202) 708-0477.

• Regulation: 24 CFR 982.505(c)(3).

Project/Activity: Jefferson Metropolitan Housing Authority (JMHA), Jefferson, OH.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted by: Sandra B. Henriquez, Assistant Secretary for Public and Indian Housing.

Date Granted: September 22, 2011.

Reason Waived: This waiver was granted because this cost-saving measure would enable the JMHA to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 7th Street SW., Room 4210, Washington, DC 20410, telephone (202) 708-0477.

• Regulation: 24 CFR 982.505(c)(3).

Project/Activity: Anasco Public Housing Authority (APHA), Anasco, PR.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted by: Sandra B. Henriquez, Assistant Secretary for Public and Indian Housing.

Date Granted: September 29, 2011.

Reason Waived: This waiver was granted because this cost-saving measure would enable the APHA to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 7th Street SW., Room 4210, Washington, DC 20410, telephone (202) 708-0477.

• Regulation: 24 CFR 982.505(d).

Project/Activity: Southern Nevada Regional Housing Authority (SNRHA), Las Vegas, NV.

Nature of Requirement: HUD's regulation at 24 CFR 982.505(d) states that a public housing agency may only approve a higher payment standard for a family as a reasonable accommodation if the higher payment standard is within the basic range of 90 to 110 percent of the fair market rent (FMR) for the unit size.

Granted by: Sandra B. Henriquez, Assistant Secretary for Public and Indian Housing.

Date Granted: July 6, 2011.

Reason Waived: The participant, who is disabled, required an exception payment standard to remain in her manufactured home space which she owns. Her health care provider confirmed the need for this participant to remain in her unit. To provide this reasonable accommodation so the client could be assisted in her current unit and pay no more than 40 percent of her adjusted income toward the family share, the SNRHA was allowed to approve an exception payment standard that exceeded the basic range of 90 to 110 percent of the FMR

Contact: Laure Rawson, Director, Housing Voucher Management and Operations Division, Office of Public Housing and Voucher Programs, Office of Public and Indian Housing, Department of Housing and Urban Development, 451 7th Street SW., Room 4210, Washington, DC 20410, telephone (202) 708-0477.

• Regulation: 24 CFR 982.505(d).

Project/Activity: Willimantic Housing Authority (WHA), Willimantic CT, Las Vegas, NV.

Nature of Requirement: HUD's regulation at 24 CFR 982.505(d) states that a public housing agency may only approve a higher payment standard for a family as a reasonable accommodation if the higher payment standard is within the basic range of 90 to 110 percent of the fair market rent (FMR) for the unit size.

Granted by: Sandra B. Henriquez, Assistant Secretary for Public and Indian Housing.

Date Granted: September 30, 2011.

Reason Waived: The participant, who is disabled, required an exception payment standard to move to a unit that is accessible. The health care provider confirmed the need for this participant to move to this unit. To provide this reasonable accommodation so the client could be assisted in a new accessible unit and pay no more than 40 percent of her adjusted income toward the family share, the WHA was allowed to approve an exception payment standard that exceeded the basic range of 90 to 110 percent of the FMR.

Contact: Laure Rawson, Director, Housing Voucher Management and Operations Division, Office of Public Housing and Voucher Programs, Office of Public and Indian Housing, Department of Housing and Urban Development, 451 7th Street SW., Room 4210, Washington, DC 20410, telephone (202) 708-0477.

• Regulation: 24 CFR 982.517(b)(1).

Project/Activity: Housing Authority of the City of Alameda (HACA), Alameda, CA.

Nature of Requirement: HUD's regulation at 24 CFR 982.517(b) (1) states that the utility allowance schedule must be determined based on the typical costs of utilities and services paid by energy conservative households.

Granted by: Sandra B. Henriquez, Assistant Secretary for Public and Indian Housing.

Date Granted: July 28, 2011.

Reason Waived: The waiver was granted because the California Tax Credit Allocation Committee approves utility allowances for low-income housing tax credit (LIHTC) units. These utility allowances more accurately reflect the typical cost and consumption of utilities in the project and encourage development of affordable energy efficient units.

Contact: Laure Rawson, Director, Housing Voucher Management and Operations Division, Office of Public Housing and Voucher Programs, Office of Public and Indian Housing, Department of Housing and Urban Development, 451 7th Street SW., Room 4210, Washington, DC 20410, telephone (202) 708-0477.

• Regulation: 24 CFR 982.517(b)(1).

Project/Activity: New York State Homes and Community Renewal (NYSHCR), Albany, NY.

Nature of Requirement: HUD's regulation at 24 CFR 982.517(b)(1) states that the utility allowance schedule must be determined based on the typical costs of utilities and services paid by energy conservative households.

Granted by: Sandra B. Henriquez, Assistant Secretary for Public and Indian Housing.

Date Granted: August 25, 2011.

Reason Waived: The waiver was granted because implementing a project-specific utility allowances for any development that converts to sub-metering and is awarded enhanced vouchers would ensure that utility allowances accurately reflect the typical cost for consumption of utilities at specific projects.

Contact: Laure Rawson, Director, Housing Voucher Management and Operations Division, Office of Public Housing and Voucher Programs, Office of Public and Indian Housing, Department of Housing and Urban Development, 451 7th Street SW., Room 4210, Washington, DC 20410, telephone (202) 708-0477.

• Regulation: 24 CFR 985.101(a).

Project/Activity: Pleasantville Housing Authority (PHA), Pleasantville, NJ.

Nature of Requirement: HUD's regulation at 24 CFR 985.101(a) states that a public housing agency must submit the HUD-required Section Eight Management Assessment Program (SEMAP) certification form within 60 calendar days after the end of its fiscal year.

Granted by: Sandra B. Henriquez, Assistant Secretary for Public and Indian Housing.

Date Granted: August 16, 2011.

Reason Waived: PHA is a small housing agency with less than 250 voucher units. Small housing agencies are required to submit their SEMAP certifications every other year depending on their fiscal year end date. The field office informed PHA that it was not required to submit a certification for its fiscal year ending March 31, 2011. However, small PHAs were not exempt from submitting certifications for that quarter.

Contact: Laure Rawson, Director, Housing Voucher Management and Operations Division, Office of Public Housing and Voucher Programs, Office of Public and Indian Housing, Department of Housing and Urban Development, 451 7th Street SW., Room 4210, Washington, DC 20410, telephone (202) 708-0477.

• Regulation: 24 CFR 985.101(a).

Project/Activity: Brockton Area Multi-Service Incorporated (BAMSI), Brockton, MA.

Nature of Requirement: HUD's regulation at 24 CFR 985.101(a) states that a public housing agency must submit the HUD-required Section Eight Management Assessment Program (SEMAP) certification form within 60 calendar days after the end of its fiscal year.

Granted by: Sandra B. Henriquez, Assistant Secretary for Public and Indian Housing.

Date Granted: September 21, 2011.

Reason Waived: The waiver was granted because due to Tropical Storm Irene, BAMSI was unable to submit its SEMAP certification by the deadline of August 29, 2011, due to a power outage.

Contact: Laure Rawson, Director, Housing Voucher Management and Operations Division, Office of Public Housing and Voucher Programs, Office of Public and Indian Housing, Department of Housing and Urban Development, 451 7th Street SW., Room 4210, Washington, DC 20410, telephone (202) 708-0477.

• Regulation: 24 CFR 990.185(a)(1)(ii).

Project/Activity: Tuscaloosa Housing Authority (THA), Tuscaloosa, Alabama

Nature of Requirement: This regulation requires that 75 percent of savings generated under the Operating Fund by an Energy Performance Contract using the Frozen Rolling Base incentive must be used for debt service. If less than 75 percent of savings are used for debt service, the difference between whatever percentages is used and 75 percent must be returned to HUD. The public housing authority can keep the remaining 25 percent.

Granted by: Sandra B. Henriquez, Assistant Secretary, Public and Indian Housing

Date Granted: August 31, 2011.

Reason Waived: Enforcement of the requirement would have resulted in the PHA having in excess of $845,000 recaptured by HUD, representing a significant portion of their allocation. The Tuscaloosa Housing Authority was struck by a tornado in April of 2011, resulting in a large amount of unforeseen costs. Recapture of the Energy Performance Contract-related savings would have resulted in additional financial hardship to the PHA.

Contact: Erin Schaefer, Housing Program Specialist, Office of Public and Indian Housing, Department of Housing and Urban Development, 451 7th Street SW., Room 4212, Washington, DC 20410, telephone (202) 402-6354.

[FR Doc. 2011-32446 Filed 12-16-11; 8:45 am]

BILLING CODE 4210-67-P